NATIONAL ARCHIVES AND RECORDS ADMINISTRATION

Advisory Committee on Preservation; Meeting

AGENCY: National Archives and Records Administration.

ACTION: Notice of meeting.

SUMMARY: In accordance with the Federal Advisory Committee Act (5 U.S.C. App. 2) and implementing regulation 41 CFR 101.6, the National Archives and Records Administration (NARA) announces a meeting of the Advisory Committee on Preservation. NARA uses the Committee's recommendations on NARA's implementation of strategies for preserving the permanently valuable records of the Federal Government.

DATES: October 26, 2000, from 9 a.m. to 4 p.m.

ADDRESSES: National Archives and Records Administration, 8601 Adelphi Road, lecture rooms B & C, College Park, MD 20740-6001.

FOR FURTHER INFORMATION CONTACT: Alan Calmes, Secretary, 301-713-7403.

SUPPLEMENTARY INFORMATION: The agenda for this meeting of sound recording experts to advise and provide guidance for the preservation and storage of the permanently valuable audio recordings of the Federal Government is:

1. Overview of the variety of audio formats in archival holdings.

2. Current archival preservation reformatting techniques.

3. Technical discussion of new preservation format alternatives.

4. Recommendations.

This meeting will be open to the public, but seating may be limited.

Dated: September 13, 2000.
Mary Ann Hadyka,
Committee Management Officer.

[FR Doc. 00-23958 Filed 9-18-00; 8:45 am]

BILLING CODE 7515-01-U